DEPARTMENT OF COMMERCE

National Oceanic and Atmospheric Administration

[I.D. 040303B]

Pacific Fishery Management Council; Public Meeting

AGENCY: National Marine Fisheries Service (NMFS), National Oceanic and Atmospheric Administration (NOAA), Commerce.

ACTION: Notice of public meeting.

SUMMARY: The Pacific Fishery Management Council's (Council) Highly Migratory Species Plan Development Team (HMSPDT), Highly Migratory Species Advisory Subpanel, and Highly Migratory Species Subcommittee of the Science and Statistical Committee will hold a joint work session, which is open to the public.

DATES: The work session will be Tuesday, April 29, 2003 from 9 a.m. until 4 p.m.; and Wednesday, April 30, 2003 from 9 a.m. until business for the day is completed.

ADDRESSES: The work session will be held at the Hubbs-Sea World Research Institute, 2595 Ingraham Street, San Diego, CA 92109; telephone: (619) 226-3870.

Council address: Pacific Fishery Management Council, 7700 NE Ambassador Place, Suite 200, Portland, OR 97220-1384.

FOR FURTHER INFORMATION CONTACT: Mr. Dan Waldeck, Pacific Fishery Management Council; telephone: (503) 820-2280.

SUPPLEMENTARY INFORMATION: At this joint meeting, NMFS analysts will present information on potential impacts on sea turtles from high seas longline fishing east of 150° W longitude. Recent information from longline fishing operations east of 150° W longitude has been reviewed by NMFS. Based on their initial review, NMFS is concerned that longline vessels targeting swordfish could have interactions with sea turtles at rates similar to rates in waters west of 150° W longitude. These latter rates were the basis for total turtle take and mortality estimates that resulted in a jeopardy determination and the prohibition of swordfish targeting by Hawaii-based longline vessels. A similar conclusion for West Coast-based fishing under the FMP could result in partial disapproval of the fishery management plan (FMP). Therefore, in March 2003, NMFS requested and the Council agreed to delay submission of the HMS FMP to provide time for NMFS to complete scientific review of the new data and present the results to the Council HMS advisory committees. At the June 2003 Council meeting, the Council will review the new information and, based on the advice of its advisors and the public, could act to modify a motion previously adopted. That is, at the June 2003 Council meeting, the Council could modify the preferred alternative for pelagic longline fisheries outside of the U.S. Exclusive Economic Zone.

Although nonemergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

The meeting is physically accessible to people with disabilities. Requests for sign language interpretation or other auxiliary aids should be directed to Ms. Carolyn Porter at (503) 820-2280 at least 5 days prior to the meeting date.

Dated: April 3, 2003.
Theophilus R. Brainerd,
Acting Director, Office of Sustainable Fisheries, National Marine Fisheries Service.

[FR Doc. 03-8824 Filed 4-9-03; 8:45 am]

BILLING CODE 3510-22-S